COMMITTEE FOR PURCHASE FROM PEOPLE WHO ARE BLIND OR SEVERELY DISABLED

Procurement List Additions and Deletions

AGENCY: Committee for Purchase from People Who Are Blind or Severely Disabled.

ACTION: Additions to and deletions from Procurement List.

SUMMARY: This action adds to the Procurement List products and services to be furnished by nonprofit agencies employing persons who are blind or have other severe disabilities, and deletes from the Procurement List products and services previously furnished by such agencies.

EFFECTIVE DATE: November 16, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On March 14, August 8, and August 15, 2003, the Committee for Purchase From People Who Are Blind or Severely Disabled published notice (68 FR 12340, 47292, and 48879) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Markers, Liquid Impression.

7520-00-NIB-1677—Set/Medium Point (Black, Blue, Red, Green).

7520-00-NIB-1678—Medium Point (Black).

7520-00-NIB-1679—Medium Point (Red).

7520-00-NIB-1680—Medium Point (Blue).

7520-00-NIB-1681—Set/Extra Fine Tip (Black, Blue, Red, Green).

7520-00-NIB-1682—Extra Fine Tip (Black).

7520-00-NIB-1683—Extra Fine Tip (Red).

7520-00-NIB-1684—Extra Fine Tip (Blue).

NPA: Winston-Salem Industries for the Blind, Winston-Salem, North Carolina.

Contract Activity: Office Supplies & Paper Products Acquisition Center, New York, New York.

Product/NSN: Markers, Permanent Impression.

7520-00-NIB-1667—Fine Tip (Black).

7520-00-NIB-1668—Fine Tip (Red).

7520-00-NIB-1669—Fine Tip (Blue).

7520-00-NIB-1670—Fine Tip (Green).

7520-00-NIB-1671—Set/Fine Tip (Black, Blue, Red, Green).

7520-00-NIB-1672—Ultra Fine Tip (Black).

7520-00-NIB-1673—Ultra Fine Tip (Red).

7520-00-NIB-1674—Ultra Fine Tip (Blue).

7520-00-NIB-1675—Ultra Fine Tip (Green).

7520-00-NIB-1676—Set/Ultra Fine Tip (Black, Blue, Red, Green).

NPA: Winston-Salem Industries for the Blind, Winston-Salem, North Carolina.

Contract Activity: Office Supplies & Paper Products Acquisition Center, New York, New York.

Services

Service Type/Location: Custodial Services, FAA, New Air Traffic Control Tower & Administrative Office Space, (Located on 3rd & 4th floor of the Old ATCT), Cleveland, Ohio.

NPA: Murray Ridge Production Center, Inc., Elyria, Ohio.

Contract Activity: Federal Aviation Administration, North Olmsted, Ohio.

Service Type/Location: Janitorial/Custodial, USDA Service Center, 3622 Avtech Parkway, Shasta Trinity National Forest, Redding, California.

NPA: Shasta County Opportunity Center, Redding, California.

Contract Activity: USDA, Northern Province Operations, Redding, California.

Service Type/Location: Landscaping Service, Department of Justice, Bureau of Prisons, Washington, DC.

NPA: Davis Memorial Goodwill Industries, Washington, DC.

Contract Activity: Department of Justice, Washington, DC.

Deletions

On August 15, 2003, the Committee for Purchase From People Who Are Blind or Severely Disabled published notice (68 FR 48879) of proposed deletions to the Procurement List. After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may not result in any additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Product/NSN: Bag, Vacuum Cleaner, Disposable, M.R. 1001, M.R. 1002, M.R. 1003, M.R. 1004, M.R. 1005, M.R. 1006, M.R. 1007, M.R. 1008.

NPA: New York City Industries for the Blind, Inc., Brooklyn, New York.

Contract Activity: Defense Commissary Agency, Fort Lee, Virginia.

Product/NSN: Broom, Whisk, M.R. 909.

NPA: None currently authorized.

Contract Activity: Defense Commissary Agency (DeCA), Ft. Lee, Virginia.

Product/NSN: Dustpan, M.R. 995.

NPA: None currently authorized.

Contract Activity: Defense Commissary Agency (DeCA), Ft. Lee, Virginia.

Product/NSN: Egg Slicer, M.R. 843.

NPA: Alabama Industries for the Blind, Talladega, Alabama.

Contract Activity: Defense Commissary Agency (DeCA), Ft. Lee, Virginia.

Product/NSN: Fabric Softener Sheets, Reusable, M.R. 520.

NPA: Industries of the Blind, Inc., Greensboro, North Carolina.

Contract Activity: Defense Commissary Agency (DeCA), Ft. Lee, Virginia.

Product/NSN: Kitchen, Utensils, M.R. 821.

NPA: Cincinnati Association for the Blind, Cincinnati, Ohio.

Contract Activity: Defense Commissary Agency (DeCA), Ft. Lee, Virginia.

Product/NSN: Nylon & Plastic Kitchen Utensils, M.R. 839, M.R. 840.

NPA: The Lighthouse for the Blind, Inc. (Seattle Lighthouse), Seattle, Washington.

Contract Activity: Defense Commissary Agency (DeCA), Ft. Lee, Virginia.

Product/NSN: Pencil, Mechanical, Dual Action, M.R. 052.

NPA: San Antonio Lighthouse, San Antonio, Texas.

Contract Activity: Defense Commissary Agency (DeCA), Ft. Lee, Virginia.

Product/NSN: Pens and Markers, M.R. 062, M.R. 063, M.R. 064, M.R. 065, M.R. 066, M.R. 067.

NPA: West Texas Lighthouse for the Blind, San Angelo, Texas.

Contract Activity: Defense Commissary Agency (DeCA), Ft. Lee, Virginia.

Product/NSN: Potpourri, M.R. 400, M.R. 401, M.R. 403.

NPA: Envision, Inc., Wichita, Kansas.

Contract Activity: Defense Commissary Agency (DeCA), Ft. Lee, Virginia.

Product/NSN: PVA Mop, M.R. 1027.

NPA: The Lighthouse for the Blind, Inc. (Seattle Lighthouse), Seattle, Washington.

Contract Activity: Defense Commissary Agency (DeCA), Ft. Lee, Virginia.

Product/NSN: Scrubber, M.R. 543.

NPA: Beacon Lighthouse, Inc., Wichita Falls, Texas.

Contract Activity: Defense Commissary Agency (DeCA), Ft. Lee, Virginia.

Product/NSN: Scrubber, Sponge, M.R. 548.

NPA: Mississippi Industries for the Blind, Jackson, Mississippi.

NPA: New York City Industries for the Blind, Inc., Brooklyn, New York.

Contract Activity: Defense Commissary Agency (DeCA), Ft. Lee, Virginia.

Product/NSN: Towels, Seasonal, M.R. 1009.

NPA: Chester County Branch of the PAB, Coatesville, Pennsylvania.

Contract Activity: Defense Commissary Agency, Fort Lee, Virginia.

Product/NSN: Wipes, Scrubber, M.R. 588.

NPA: Mississippi Industries for the Blind, Jackson, Mississippi.

Contract Activity: Defense Commissary Agency (DeCA), Ft. Lee, Virginia.

Services

Service Type/Location: Food Service Attendant, Charleston Naval Weapons Station, Building 306, Charleston, South Carolina.

NPA: Goodwill Industries of Lower South Carolina, Inc., North Charleston, South Carolina.

Contract Activity: Department of the Navy.

Service Type/Location: Food Service Attendant, Charleston Naval Weapon Station, Building NS-43, Charleston, South Carolina.

NPA: Goodwill Industries of Lower South Carolina, Inc., North Charleston, South Carolina.

Contract Activity: Department of the Navy.

Service Type/Location: Food Service Attendant, Orlando Naval Training Center, Orlando, Florida.

NPA: Goodwill Industries of Central Florida, Orlando, Florida.

Contract Activity: Department of the Navy.

Service Type/Location: Janitorial/Custodial, U.S. Army Reserve Center, Memphis, Tennessee.

NPA: Shelby Residential and Vocational Services, Inc., Memphis, Tennessee.

Contract Activity: Department of the Army.

Sheryl D. Kennerly,
Director, Information Management.

[FR Doc. 03-26328 Filed 10-16-03; 8:45 am]

BILLING CODE 6353-01-P